DEPARTMENT OF HEALTH AND HUMAN SERVICES

National Institutes of Health

Center for Scientific Review; Amended Notice of Meeting

Notice is hereby given of a change in the meeting of the Center for Scientific Review Special Emphasis Panel, February 24, 2010, 6 p.m. to February 26, 2010, 4 p.m., Hilton Salt Lake City Center, 255 South West Temple, Salt Lake City, UT, 84101 which was published in the Federal Register on January 26, 2010, 75 FR 4092-4093.

The meeting title has been changed to “Program Project: Integrative Biomedical Computing Resource Center”. The meeting is closed to the public.

Dated: January 28, 2010.
Jennifer Spaeth,
Director, Office of Federal Advisory Committee Policy.

[FR Doc. 2010-2462 Filed 2-4-10; 8:45 am]

BILLING CODE 4140-01-P